DEPARTMENT OF ENERGY

Federal Energy Regulatory Commission

Combined Notice of Filings #1

Take notice that the Commission received the following electric rate filings:

Docket Numbers: ER16-131-006; ER10-2294-010; ER11-3808-009; ER11-3980-009; ER11-4500-012; ER12-128-010; ER13-413-010; ER13-534-009; ER13-2103-007; ER13-2414-006; ER14-325-009; ER15-2330-006; ER16-2675-002; ER17-737-003; ER17-2471-007; ER17-2472-007; ER17-2548-002; ER18-301-006; ER18-664-007; ER18-2013-007; ER18-2214-004; ER18-2216-004; ER18-2435-006; ER19-1047-005; ER20-2977-003; ER22-1882-004; ER22-2178-004; ER22-2799-003; ER22-2800-003; ER22-2801-003; ER23-1238-003; ER23-1239-003; ER23-1773-004; ER24-561-002; ER24-564-002; ER24-3061-001.

Applicants: VESI 34 LLC, VESI 12 LLC, VESI 23 LLC, Pomona Energy Storage 2 LLC, USG Nevada LLC, ORNI 36 LLC, VESI 25 LLC, VESI 24 LLC, VESI 21 LLC, ORNI 50 LLC, VESI 10 LLC, ORNI 34 LLC, VESIVEC LLC, ORNI 41 LLC, Plumsted 537 LLC, Stryker 22, LLC., Ormat Dixie Valley LLC, Steamboat Hills LLC, Ormesa LLC, EGP Stillwater Solar PV II, LLC, ONGP LLC, ORNI 43 LLC, Viridity Energy Solutions Inc., VESI Pomona Energy Storage, Inc., ORNI 37 LLC, Enel Cove Fort, LLC, Mammoth Three LLC, ORNI 47 LLC, Mammoth One, LLC, USG Oregon LLC, EGP Stillwater Solar, LLC, Enel Stillwater, LLC, ORNI 14 LLC, ORNI 39, LLC, ORNI 18, LLC, Heber Geothermal Company LLC.

Description: Notice of Non-Material Change in Status of Heber Geothermal Company LLC.

Filed Date: 5/14/25.

Accession Number: 20250514-5174.

Comment Date: 5 p.m. ET 6/4/25.

Docket Numbers: ER22-1640-006.

Applicants: Midcontinent Independent System Operator, Inc.

Description: Compliance filing: 2025-05-16_Additional Compliance for Order No. 2222 to be effective 6/1/2029.

Filed Date: 5/16/25.

Accession Number: 20250516-5069.

Comment Date: 5 p.m. ET 6/6/25.

Docket Numbers: ER25-2235-000.

Applicants: Midcontinent Independent System Operator, Inc.

Description: § 205(d) Rate Filing: 2025-05-15_MISO-SPP JOA to include MISO ERAS in JTIQ to be effective 6/2/2025.

Filed Date: 5/15/25.

Accession Number: 20250515-5142.

Comment Date: 5 p.m. ET 6/5/25.

Docket Numbers: ER25-2236-000.

Applicants: Aron Energy Prepay 36 LLC.

Description: § 205(d) Rate Filing: Normal filing 2025 to be effective 5/16/2025.

Filed Date: 5/15/25.

Accession Number: 20250515-5144.

Comment Date: 5 p.m. ET 6/5/25.

Docket Numbers: ER25-2237-000.

Applicants: Southwest Power Pool, Inc.

Description: § 205(d) Rate Filing: SPP-MISO JOA Revisions to Include MISO ERAS in JTIQ Process to be effective 6/2/2025.

Filed Date: 5/15/25.

Accession Number: 20250515-5148.

Comment Date: 5 p.m. ET 6/5/25.

Docket Numbers: ER25-2238-000.

Applicants: Pacific Gas and Electric Company.

Description: § 205(d) Rate Filing: TO: Dinuba BESS Abandoned Plant Cost Recovery to be effective 7/15/2025.

Filed Date: 5/15/25.

Accession Number: 20250515-5150.

Comment Date: 5 p.m. ET 6/5/25.

Docket Numbers: ER25-2239-000.

Applicants: Oklahoma Gas and Electric Company.

Description: § 205(d) Rate Filing: Normal filing 2025 May to be effective 7/15/2025.

Filed Date: 5/15/25.

Accession Number: 20250515-5154.

Comment Date: 5 p.m. ET 6/5/25.

Docket Numbers: ER25-2240-000.

Applicants: Rose Wind Holdings, LLC.

Description: Tariff Amendment: Notice of Cancellation of Market-Based Rate Tariff to be effective 5/15/2025.

Filed Date: 5/15/25.

Accession Number: 20250515-5156.

Comment Date: 5 p.m. ET 6/5/25.

Docket Numbers: ER25-2241-000.

Applicants: K&K Wind Enterprises, LLC.

Description: Tariff Amendment: Notice of Cancellation of Market-Based Rate Tariff to be effective 5/15/2025.

Filed Date: 5/15/25.

Accession Number: 20250515-5158.

Comment Date: 5 p.m. ET 6/5/25.

Docket Numbers: ER25-2242-000.

Applicants: Arizona Public Service Company.

Description: § 205(d) Rate Filing: Rate Schedule No. 321, Desert Basis 230kV Switchyard W2W to be effective 7/16/2025.

Filed Date: 5/16/25.

Accession Number: 20250516-5000.

Comment Date: 5 p.m. ET 6/6/25.

Docket Numbers: ER25-2243-000.

Applicants: Southwest Power Pool, Inc.

Description: § 205(d) Rate Filing: 2Q2025 Tariff Clean-Up Filing to be effective 7/16/2025.

Filed Date: 5/16/25.

Accession Number: 20250516-5033.

Comment Date: 5 p.m. ET 6/6/25.

Docket Numbers: ER25-2244-000.

Applicants: PJM Interconnection, L.L.C.

Description: § 205(d) Rate Filing: Amendment to ISA, Service Agreement No. 6904; Queue No. AC2-157 to be effective 7/16/2025.

Filed Date: 5/16/25.

Accession Number: 20250516-5044.

Comment Date: 5 p.m. ET 6/6/25.

Docket Numbers: ER25-2245-000.

Applicants: New York Independent System Operator, Inc.

Description: § 205(d) Rate Filing: NYISO 205: Revisions to Capacity Accreditation Rules to be effective 7/16/2025.

Filed Date: 5/16/25.

Accession Number: 20250516-5053.

Comment Date: 5 p.m. ET 6/6/25.

Docket Numbers: ER25-2246-000.

Applicants: Camchino Leasing, LLC.

Description: Initial Rate Filing: Baseline new to be effective 5/17/2025.

Filed Date: 5/16/25.

Accession Number: 20250516-5076.

Comment Date: 5 p.m. ET 6/6/25.

Docket Numbers: ER25-2247-000.

Applicants: Midcontinent Independent System Operator, Inc.

Description: § 205(d) Rate Filing: 2025-05-16_Reliability Based Demand Curve Opt Out Adder Methodology to be effective 7/16/2025.

Filed Date: 5/16/25.

Accession Number: 20250516-5084.

Comment Date: 5 p.m. ET 6/6/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 16, 2025.
Debbie-Anne A. Reese,
Secretary.

[FR Doc. 2025-09239 Filed 5-21-25; 8:45 am]

BILLING CODE 6717-01-P